DEPARTMENT OF THE INTERIOR

National Park Service

[N6917; NPS-WASO-NAGPRA-NPS0041990; PPWOCRADN0-PCU00RP14.R50000]

Notice of Intended Repatriation: Los Angeles County Museum of Natural History, Los Angeles, CA

AGENCY: National Park Service, Interior.

ACTION: Notice.

SUMMARY: In accordance with the Native American Graves Protection and Repatriation Act (NAGPRA), the Los Angeles County Museum of Natural History (LACMNH) intends to repatriate certain cultural items that meet the definition of objects of cultural patrimony and that have a cultural affiliation with the Indian Tribes or Native Hawaiian organizations in this notice.

DATES: Repatriation of the cultural items in this notice may occur on or after March 13, 2026.

ADDRESSES: Send additional, written requests for repatriation of the cultural items in this notice to Amy E. Gusick, NAGPRA Officer, Los Angeles County Museum of Natural History, 900 Exposition Boulevard, Los Angeles, CA 90007, email agusick@nhm.org.

SUPPLEMENTARY INFORMATION: This notice is published as part of the National Park Service's administrative responsibilities under NAGPRA. The determinations in this notice are the sole responsibility of the LACMNH, and additional information on the determinations in this notice, including the results of consultation, can be found in the summary or related records. The National Park Service is not responsible for the determinations in this notice.

Abstract of Information Available

A total of 16 cultural items have been requested for repatriation. The 16 objects of cultural patrimony are 14 baskets, one mano, and one metate. The objects of cultural patrimony were primarily collected from various locations within San Bernardino County, California, with one object collected in Riverside County, California. One basket was made by Dolores Crispin, a known maker from the Serrano community. The basket was collected from Coachella by Edward Strasburg at an unknown date and donated to LACMNH in 1928. Nine baskets were collected from the San Manuel Reservation and one basket was collected from Arrowhead Springs by L.B. Manson at an unknown date and donated to LACMNH by Byrne C. Manson in 1946. One basket was collected from Del Rosa Rancheria by Henrietta Waters Cole in the early 1900s and donated to LACMNH by Caroline S. Waters and Leila B. Waters in 1947. Two baskets were purchased in Highland by Helen A. Vahey in the early 1900s and donated to LACMNH in 1961. The mano and metate were collected near Baldwin Lake, Bear Valley by an unspecified collector and date. They were donated to LACMNH by Glenn Edgerton in 1932.

Determinations

The LACMNH has determined that:

• The 16 objects of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural items described in this notice and the Yuhaaviatam of San Manuel Nation (previously listed as San Manuel Band of Mission Indians, California).

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after March 13, 2026. If competing requests for repatriation are received, the LACMNH must determine the most appropriate requestor prior to repatriation. Requests for joint repatriation of the cultural items are considered a single request and not competing requests. The LACMNH is responsible for sending a copy of this notice to the Indian Tribes and Native Hawaiian organizations identified in this notice and to any other consulting parties.

Authority: Native American Graves Protection and Repatriation Act, 25 U.S.C. 3004 and the implementing regulations, 43 CFR 10.9.

Dated: February 4, 2026.
Melanie O'Brien,
Manager, National NAGPRA Program.

[FR Doc. 2026-02710 Filed 2-10-26; 8:45 am]

BILLING CODE 4312-52-P